DEPARTMENT OF COMMERCE

International Trade Administration

[A-588-838]

Clad Steel Plate From Japan: Final Results of the Expedited Fourth Sunset Review of the Antidumping Duty Order

AGENCY: Enforcement and Compliance, International Trade Administration, Department of Commerce.

SUMMARY: As a result of this expedited sunset review, Commerce finds that revocation of the antidumping duty order would be likely to lead to the continuation or recurrence of dumping at the levels indicated in the “Final Results of Review” section of this notice.

DATES: Applicable May 11, 2018.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Background

On January 2, 2018, Commerce published the notice of initiation of the fourth sunset review of the antidumping duty order on clad steel plate from Japan¹ pursuant to section 751(c) of the Act.² On January 16, 2018, Commerce received a notice of intent to participate from DMC Global Inc., dba NobelClad (DMC), a domestic interested party, within the deadline specified in 19 CFR 351.218(d)(1)(i).³ DMC claimed interested party status under section 771(9)(C) of the Act as a producer of clad steel plate in the United States.

¹ See Notice of Antidumping Order: Clad Steel Plate from Japan, 61 FR 34421 (July 2, 1996).

² See Initiation of Five-Year (Sunset) Reviews, 83 FR 100 (January 2, 2018).

³ See Letter “Clad Steel Plate from Japan—Five-Year (`Sunset') Review of Antidumping Duty Order—Notice of Intent to Participate,” dated January 16, 2018.

Commerce exercised its discretion to toll all deadlines affected by the closure of the Federal Government from January 20 through January 22, 2018. As a result, the revised deadline for the final results of this review is now May 7, 2018.⁴

⁴ See Memorandum, “Deadlines Affected by the Shutdown of the Federal Government,” dated January 23, 2018. All deadlines in this segment of the proceeding affected by the closure of the Federal Government have been extended by three days.

On January 31, 2018, Commerce received an adequate substantive response to the notice of initiation from DMC within the 30-day deadline specified in 19 CFR 351.218(d)(3)(i).⁵ We received no substantive responses from respondent interested parties with respect to the order covered by this sunset review.

⁵ See Letter “Clad Steel Plate from Japan: Five-Year (`4th Sunset') Review of Antidumping Duty Order—DMC Global Inc. dba NobelClad's Substantive Response to Notice of Initiation,” dated January 31, 2018.

On February 23, 2018, Commerce notified the U.S. International Trade Commission that it did not receive an adequate substantive response from respondent interested parties.⁶ As a result, pursuant to 751(c)(3)(B) of the Act and 19 CFR 351.218(e)(1)(ii)(C)(2), Commerce conducted an expedited (120-day) sunset review of the antidumping duty order on clad steel plate from Japan.

⁶ See Letter re: “Sunset Reviews Initiated on January 2, 2018,” dated February 23, 2018.

Scope of the Order

The scope of the order is all clad ⁷ steel plate of a width of 600 millimeters (mm) or more and a composite thickness of 4.5 mm or more. Clad steel plate is a rectangular finished steel mill product consisting of a layer of cladding material (usually stainless steel or nickel) which is metallurgically bonded to a base or backing of ferrous metal (usually carbon or low alloy steel) where the latter predominates by weight.

⁷ Cladding is the association of layers of metals of different colors or natures by molecular interpenetration of the surfaces in contact. This limited diffusion is characteristic of clad products and differentiates them from products metalized in other manners (e.g., by normal electroplating). The various cladding processes include pouring molten cladding metal onto the basic metal followed by rolling; simple hot-rolling of the cladding metal to ensure efficient welding to the basic metal; any other method of deposition of superimposing of the cladding metal followed by any mechanical or thermal process to ensure welding (e.g., electrocladding), in which the cladding metal (nickel, chromium, etc.) is applied to the basic metal by electroplating, molecular interpenetration of the surfaces in contact then being obtained by heat treatment at the appropriate temperature with subsequent cold rolling. See Harmonized Commodity Description and Coding System Explanatory Notes, Chapter 72, General Note (IV)(C)(2)(e).

Stainless clad steel plate is manufactured to American Society for Testing and Materials (ASTM) specifications A263 (400 series stainless types) and A264 (300 series stainless types). Nickel and nickel-base alloy clad steel plate is manufactured to ASTM specification A265. These specifications are illustrative but not necessarily all-inclusive.

Clad steel plate within the scope of the order is classifiable under the Harmonized Tariff Schedule of the United States (HTSUS) 7210.90.10.00. Although the HTSUS subheading is provided for convenience and customs purposes, our written description of the scope of the order is dispositive.

Analysis of Comments Received

All issues raised in this sunset review are addressed in the Issues and Decision Memorandum,⁸ which is hereby adopted by this notice. The issues discussed in the Issues and Decision Memorandum are the likelihood of continuation or recurrence of dumping and the magnitude of the dumping margin likely to prevail if the order were revoked. The Issues and Decision Memorandum is a public document and is on file electronically via Enforcement and Compliance's Antidumping and Countervailing Duty Centralized Electronic Service System (ACCESS). ACCESS is available to registered users at http://acess.trade.gov, and to all in the Central Records Unit, Room B8024 of the main Department of Commerce building. In addition, a complete version of the Issues and Decision Memorandum can be accessed directly on the internet at http://enforcement.trade.gov/frn. The signed Issues and Decision Memorandum and the electronic version of the Issues and Decision Memorandum are identical in content.

⁸ See Memorandum “Issues and Decision Memorandum for the Expedited Fourth Sunset Review of the Antidumping Duty Order on Clad Steel Plate from Japan,” dated concurrently with this notice (Issues and Decision Memorandum).

Final Results of Review

Pursuant to sections 751(c)(1) and 752(c)(1) and (3) of the Act, Commerce determines that revocation of the antidumping duty order on clad steel plate from Japan would be likely to lead to the continuation or recurrence of dumping at weighted-average dumping margins up to 118.53 percent.⁹

⁹ Commerce assigned this margin of 118.53 percent to The Japan Steel Company and “All Others” in the less than fair value investigation on the basis of adverse facts available using the rate contained in the petition. See Notice of Final Determination of Sales at Less Than Fair Value: Clad Steel Plate from Japan, 61 FR 21158, 21159 (May 9, 1996).

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and this notice in accordance with sections 751(c), 752(c), and 777(i)(1) of the Act and 19 CFR 351.218.

Dated: May 4, 2018.
Gary Taverman,
Deputy Assistant Secretary for Antidumping and Countervailing Duty Operations, performing the non-exclusive functions and duties of the Assistant Secretary for Enforcement and Compliance.

[FR Doc. 2018-10069 Filed 5-10-18; 8:45 am]

BILLING CODE 3510-DS-P